DEPARTMENT OF COMMERCE

Foreign-Trade Zones Board

[Docket 13-2005]

Foreign-Trade Zone 247—Erie, PA, Application for Expansion

An application has been submitted to the Foreign-Trade Zones (FTZ) Board (the Board), by the Erie-Western Pennsylvania Port Authority, grantee of Foreign-Trade Zone 247, requesting authority to expand its zone to include a site in Franklin, Pennsylvania, adjacent to the Erie Customs port of entry. The application was submitted pursuant to the provisions of the Foreign-Trade Zones Act, as amended (19 U.S.C. 81a-81u), and the regulations of the Board (15 CFR part 400). It was formally filed on March 11, 2005.

FTZ 247 was approved on April 3, 2001 (Board Order 1144, 66 FR 19424, 4/16/01). The general-purpose zone consists of three sites (496 acres) in the City of Erie: Site 1 (26 acres)—Erie International Marine Terminal facility located at the International Port of Erie on the shore Presque Isle Bay at East Bay Drive; Site 2 (450 acres)—Erie International Airport; and, Site 3 (20 acres)—Hardinger Transportation Company warehousing and distribution facilities located at 1314 West 18th Street.

The applicant is now requesting authority to expand the general-purpose zone to include a site in Venango County: Proposed Site 4 (34 acres) at the Venango Regional Airport Industrial Park located at 1560 Airport Road in the City of Franklin. The site is owned by the County of Venango. No specific manufacturing authority is being requested at this time. Such requests would be made on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—Suite 4100W, 1401 Constitution Avenue, NW., Washington, DC 20230.

The closing period for their receipt is May 20, 2005. Rebuttal comments in response to material submitted during the foregoing period may be submitted during the subsequent 15-day period (to June 6, 2005).

A copy of the application and accompanying exhibits will be available during this time for public inspection at address Number 1 listed above, and at the Venango Regional Airport, 1560 Airport Road, Franklin, Pennsylvania 16323.

Dated: March 11, 2005.
Dennis Puccinelli,
Executive Secretary.

[FR Doc. 05-5536 Filed 3-18-05; 8:45 am]

BILLING CODE 3510-DS-P